DEPARTMENT OF COMMERCE

Foreign-Trade Zones Board

[B-33-2020]

Foreign-Trade Zone (FTZ) 137—Washington Dulles International Airport, Virginia; Authorization of Production Activity; FN America, LLC (Disassembly of Machine Guns), Dulles, Virginia

On May 22, 2020, CDS Air Freight Inc., an operator within FTZ 137, submitted a notification of proposed production activity to the FTZ Board on behalf of FN America, LLC, within FTZ 137, in Dulles, Virginia.

The notification was processed in accordance with the regulations of the FTZ Board (15 CFR part 400), including notice in the Federal Register inviting public comment (85 FR 33622, June 2, 2020). On September 21, 2020, the applicant was notified of the FTZ Board's decision that no further review of the activity is warranted at this time. The production activity described in the notification was authorized, subject to the FTZ Act and the FTZ Board's regulations, including Section 400.14.

Dated: September 21, 2020.
Andrew McGilvray,
Executive Secretary.

[FR Doc. 2020-21101 Filed 9-23-20; 8:45 am]

BILLING CODE 3510-DS-P